FEDERAL COMMUNICATIONS COMMISSION

47 CFR Part 73

[DA 03-3228; MB Docket No. 03-222; RM-10812]

Radio Broadcasting Services; Charlotte and Grand Ledge, MI

AGENCY: Federal Communications Commission.

ACTION: Proposed rule.

SUMMARY: This document requests comments on a petition for rule making filed by Rubber City Radio Group (“Petitioner”), licensee of Station WQTX(FM), Channel 224A, Charlotte, Michigan. The petition proposes to switch Station WQTX(FM) from Channel 224A to Channel 225A, to change Station WQTX(FM)'s community of license from Charlotte to Grand Ledge, Michigan, and to provide Grand Ledge with its first local aural transmission service. The coordinates for requested Channel 225A at Grand Ledge, Michigan, are 42-42-17 NL and 84-37-20 WL, with a site restriction of 11.5 kilometers (7.2 miles) southeast of Grand Ledge. Petitioner's reallotment proposal complies with the provisions of Section 1.420(i) of the Commission's Rules, and therefore, the Commission will not accept competing expressions of interest in the use of Channel 225A at Grand Ledge, Michigan, or require the petitioner to demonstrate the availability of an additional equivalent class channel.

DATES: Comments must be filed on or before December 15, 2003, and reply comments on or before December 30, 2003.

ADDRESSES: Secretary, Federal Communications Commission, 445 12th Street, SW, Room TW-A325, Washington, DC 20554. In addition to filing comments with the FCC, interested parties should serve the petitioners' counsel, as follows: Erwin G. Krawnow, Esq, Shook, Hardy & Bacon; 600 14th Street, NW.; Suite 800; Washington, DC 20005-2004.

FOR FURTHER INFORMATION CONTACT: R. Barthen Gorman, Media Bureau, (202) 418-2180.

SUPPLEMENTARY INFORMATION: This is a synopsis of the Commission's Notice of Proposed Rule Making, MB Docket No. 03-222, adopted October 22, 2003, and released October 24, 2003. The full text of this Commission decision is available for inspection and copying during regular business hours in the FCC's Reference Information Center at Portals II, 445 12th Street, SW, CY-A257, Washington, DC 20554. This document may also be purchased from the Commission's duplicating contractors, Qualex International, Portals II, 445 12th Street, SW, Room CY-B402, Washington, DC, 20554, telephone 202-863-2893, facsimile 202-863-2898, or via e-mail qualexint@aol.com.

The provisions of the Regulatory Flexibility Act of 1980 do not apply to this proceeding.

Members of the public should note that from the time a Notice of Proposed Rule Making is issued until the matter is no longer subject to Commission consideration or court review, all ex parte contacts are prohibited in Commission proceedings, such as this one, which involve channel allotments. See 47 CFR 1.1204(b) for rules governing permissible ex parte contacts.

For information regarding proper filing procedures for comments, See 47 CFR 1.415 and 1.420.

List of Subjects in 47 CFR Part 73

Radio, Radio broadcasting.

For the reasons discussed in the preamble, the Federal Communications Commission proposes to amend 47 CFR part 73 as follows:

PART 73—RADIO BROADCAST SERVICES

1. The authority citation for part 73 continues to read as follows:

Authority: 47 U.S.C. 154, 303, 334, and 336.

§ 73.202 [Amended]

2. Section 73.202(b), the Table of FM Allotments under Michigan, is amended by adding Grand Ledge, Channel 225A, and removing Charlotte, Channel 224A.

Federal Communications Commission.
John A. Karousos,
Assistant Chief, Audio Division, Media Bureau.

[FR Doc. 03-27823 Filed 11-4-03; 8:45 am]

BILLING CODE 6712-01-P